DEPARTMENT OF TRANSPORTATION

Federal Aviation Administration

Aviation Rulemaking Advisory Committee Meeting on Transport Airplane and Engine Issues

AGENCY: Federal Aviation Administration (FAA), DOT.

ACTION: Notice of public meeting.

SUMMARY: This notice announces a public meeting of the FAA's Aviation Rulemaking Advisory Committee (ARAC) Transport Airplane and Engine (TAE) Subcommittee to discuss TAE issues.

DATES: The meeting is scheduled for Wednesday, November 04, 2015, starting at 9:00 a.m. Pacific Standard Time. Arrange for oral presentations by October 16, 2015.

ADDRESSES: FAA-Northwest Mountain Region Office, Conference Room 122, 1601 Lind Ave. SW., Renton, WA 98057.

FOR FURTHER INFORMATION CONTACT: Ralen Gao, Office of Rulemaking, ARM-209, FAA, 800 Independence Avenue SW., Washington, DC 20591, Telephone (202) 267-3168, Fax (202) 267-5075, or email at ralen.gao@faa.gov.

SUPPLEMENTARY INFORMATION: Pursuant to section 10(a)(2) of the Federal Advisory Committee Act (Pub. L. 92-463; 5 U.S.C. app. III), notice is given of an ARAC meeting to be held November 4, 2015.

The agenda for the meeting is as follows:

• Opening Remarks, Review Agenda and Minutes

• FAA Report

• ARAC Report

• Transport Canada Report

• EASA Report

• Engine HWG Report

• Airworthiness Assurance HWG Report

• Flight Test HWG Report

• Materials Flammability WG Report

• Metallic and Composite Structures WG Report

• Crashworthiness and Ditching WG Report

• Any Other Business

• Action Item Review

Participation is open to the public, but will be limited to the availability of teleconference lines.

To participate, please contact the person listed in FOR FURTHER INFORMATION CONTACT by email or phone for the teleconference call-in number and passcode. Please provide the following information: Full legal name, country of citizenship, and name of your industry association, or applicable affiliation. If you are participating as a public citizen, please indicate so. Participants are responsible for any telephone, data usage or other similar expenses related to this meeting.

The public must make arrangements by October 16, 2015, to present oral or written statements at the meeting. Written statements may be presented to the Subcommittee by providing a copy to the person listed in the FOR FURTHER INFORMATION CONTACT section. Copies of the documents to be presented to the Subcommittee may be made available by contacting the person listed in the FOR FURTHER INFORMATION CONTACT section.

If you need assistance or require a reasonable accommodation for the meeting or meeting documents, please contact the person listed in the FOR FURTHER INFORMATION CONTACT section.

Issued in Washington, DC, on October 2, 2015.
Lirio Liu,
Designated Federal Officer, Aviation Rulemaking Advisory Committee.

[FR Doc. 2015-25608 Filed 10-7-15; 8:45 am]

BILLING CODE 4910-13-P